DEPARTMENT OF AGRICULTURE

Forest Service

North Central Idaho Resource Advisory Committee

AGENCY: Forest Service, USDA.

ACTION: Notice of meeting.

SUMMARY: The North Central Idaho RAC will meet in Grangeville, Idaho. The committee is meeting as authorized under the Secure Rural Schools and Community Self-Determination Act (Pub. L. 110-343) and in compliance with the Federal Advisory Committee Act. The purpose of the meeting is for RAC Members to recommend FY 2013 Title II projects (under the one year Secure Rural Schools extension) for approval. Project sponsors are asked to attend the entire RAC meeting as there will be a Question & Answer period in place of full presentations. Meetings are always open to the public.

DATES: The meeting will be held on August 2, 2012, at 10 a.m. (PST).

ADDRESSES: The meeting will be held at the Nez Perce National Forest Supervisors Office, 104 Airport Road, Grangeville, Idaho. Written comments should be sent to Laura Smith at 104 Airport Road in Grangeville, Idaho 83530. Comments may also be sent via email to lasmith@fs.fed.us or via facsimile to Laura at 208-983-4099.

FOR FURTHER INFORMATION CONTACT: Laura Smith, Designated Forest Official at 208-983-5143.

SUPPLEMENTARY INFORMATION: The meeting is open to the public. A public forum will begin at 3:15 p.m. (PST) on the meeting day. The following business will be conducted: Comments and questions from the public to the committee. Persons who wish to bring related matters to the attention of the Committee may file written statements with the Committee staff before or after the meeting.

Dated: July 16, 2012.
Rick Brazell,
Forest Supervisor.

[FR Doc. 2012-17981 Filed 7-23-12; 8:45 am]

BILLING CODE 3410-11-P